DEPARTMENT OF AGRICULTURE

Office of the Secretary

[Docket No. APHIS-2013-0047]

Enhancing Agricultural Coexistence; Request for Public Input

ACTION: Request for information.

SUMMARY: We are informing the public that the U.S. Department of Agriculture (USDA) is soliciting comments to identify ways to foster communication and collaboration among those involved in diverse agricultural production systems in order to further agricultural coexistence. We are taking this action in response to recommendations from the USDA's Advisory Committee on Biotechnology & 21st Century Agriculture.

DATES: We will consider all comments that we receive on or before January 3, 2014.

ADDRESSES: You may submit comments by either of the following methods:

• Federal eRulemaking Portal: Go to http://www.regulations.gov/#!documentDetail;D=APHIS-2013-0047-0001.

• Postal Mail/Commercial Delivery: Send your comment to Docket No. APHIS-2013-0047, Regulatory Analysis and Development, PPD, APHIS, Station 3A-03.8, 4700 River Road Unit 118, Riverdale, MD 20737-1238.

Supporting documents and any comments we receive on this docket may be viewed at http://www.regulations.gov/#!docketDetail;D=APHIS-2013-0047 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: Ms. Meghan Klingel, Acting Advisor for State and Stakeholder Relations, Office of the Deputy Administrator, LPA, APHIS, 4700 River Road Unit 51, Riverdale, MD 20737-1231; (301) 851-4055, email: meghan.k.klingel@aphis.usda.gov.

SUPPLEMENTARY INFORMATION:

Background

Agricultural coexistence refers to the concurrent cultivation of crops produced through diverse agricultural systems, including traditionally produced, organic, identity preserved (IP),¹ and genetically engineered crops. As the complexity and diversity of U.S. agriculture increases, so does the importance of managing issues that affect agricultural coexistence, such as seed purity, gene flow, post-harvest mixing, identity testing, and market requirements.

¹ An identity preserved crop is a crop of an assured quality in which the identity of the material is maintained from the germplasm or breeding stock to the processed product on a retail shelf.

On November 19, 2012, the U.S. Department of Agriculture's (USDA) Advisory Committee on Biotechnology & 21st Century Agriculture (AC21) presented a report ² to Secretary Thomas J. Vilsack entitled, “Enhancing Coexistence: A Report of the AC21 to the Secretary of Agriculture.” The AC21 report on coexistence made recommendations in five major areas regarding agricultural coexistence: (1) Potential compensation mechanisms, (2) stewardship, (3) education and outreach, (4) research, and (5) seed quality. In the area of education and outreach, we are seeking public input regarding the implementation of the recommendation that USDA foster communication and collaboration to strengthen coexistence. Following the comment period, USDA intends to hold a public forum to discuss input provided by commenters and further explore ways to implement the recommendations in the AC21 report on enhancing coexistence, particularly in the area of education and outreach.

² To view the report and learn more about the AC21, go to http://www.usda.gov/wps/portal/usda/usdahome?contentidonly=true&contentid=AC21Main.xml.

USDA's goal in seeking comment is to determine how we can best foster communication and collaboration among those involved in diverse agricultural systems on the topic of coexistence as well as how USDA can best communicate and collaborate with those entities. To do this, USDA needs to better understand our stakeholders' needs and the challenges they face when it comes to communicating and collaborating about coexistence. Specific topics for input are discussed below. To aid in our evaluation of comments, we request that commenters identify which topic number(s) they are addressing in their comment when practicable. We also request that commenters indicate where any tools or information that they identify in their comment can be obtained.

1. As we seek improved communication and collaboration among agricultural stakeholders, we are interested in identifying information needs and exploring successful communication methods.

• When you or members of your organization seek information related to coexistence, what type of information are you seeking and where do you go to get it? Why?

• What information regarding coexistence, in what format, is currently available (printed or electronic brochures, factsheets, blog posts, Web sites, discussion forums, etc.)? Is this information useful? Why or why not? What additional information, in what format, would be useful to you or members of your organization?

• Please indicate your preferences with respect to receiving information or communications from USDA. Would you be interested in receiving information or communications from non-USDA sources? How might you or your organization, as agricultural stakeholders, want to be involved in disseminating information?

• Where should USDA focus its efforts to best foster communication and collaboration amongst stakeholders? What would best facilitate farmer-to-farmer communication and collaboration?

• Please share any examples of and feedback regarding successful communication models, including those that have worked well for other issues.

2. As part of USDA's outreach and education efforts, we are interested in identifying education needs and exploring the creation of “outreach toolkits” that will encourage communication, planning, and crop-specific practices to facilitate successful coexistence.

• What tools and educational services are already available? Are these tools and services useful? What tools and educational services would be useful to you?

• How might USDA assist farmers to better understand the contracts they enter into (e.g., contracts to provide organic products and IP products for specialty markets) and their commitments with respect to coexistence?

• What geographic information, in what format, is available regarding the location of crops that are planted and grown using different types of agricultural systems (e.g., pinning maps)? Is the information updated regularly? What are stakeholders doing to make this type of geographic information more widely available? What can USDA do to assist in these efforts?

• Would a decision support system, i.e., a computer-based information system that could be used to support data-based, planting-related decisions, with topics such as when and where to plant, suitable isolation distances, and gene flow, be useful? Why or why not? If such a decision support system would be useful, what data would be needed for the system to be effective?

3. Farmers and others in the food and feed production chain have an important role in collaborating to make coexistence work, particularly with reference to stewardship, contracting, and attention to gene flow. As we seek to improve collaboration among those involved in diverse agricultural systems, we are interested in hearing what practices and activities that support collaboration are available or in use and how USDA can help make collaboration and coexistence work for everyone involved.

• What are factors that might prevent or promote the broad adoption of local, voluntary solutions aimed at facilitating coexistence?

• Please provide examples of effective coexistence practices (e.g., between neighboring farmers or among regional networks of farms) and on-farm and off-farm techniques for mitigating the potential economic risks from occurrences that affect successful coexistence. How might they be made to be more effective?

• What types of coexistence practices could be supported in potential joint coexistence plans,³ i.e., voluntary written plans specifying farming practices (such as farmer-to-farmer communication, cropping plans, temporal and physical isolation, and harvesting techniques) that can be used to support coexistence and identity-preserved production? What might an effective, supportable, joint coexistence plan look like? How might USDA encourage adoption of joint coexistence plans?

³ The AC21 report (see footnote 2) recommends that USDA consider supporting the development of such plans among neighboring farmers.

4. We also welcome any recommendations regarding collaborative meeting formats that would best ensure coexistence issues will be frankly and fully explored at the public forum that USDA intends to hold following the close of the public comment period.

Any comments submitted will be available for review as indicated under ADDRESSES above. USDA will evaluate all the comments received during the comment period. Input provided by commenters and ways to implement the recommendations in the AC21 report on enhancing coexistence (see footnote 2), particularly in the area of education and outreach, will be further explored at a public forum that USDA intends to hold following the close of the public comment period. The time and place of the public forum will be announced in the Federal Register.

Dated: October 28, 2013.
Thomas J. Vilsack,
Secretary of Agriculture.

[FR Doc. 2013-26288 Filed 11-1-13; 8:45 am]

BILLING CODE 3410-34-P